DEPARTMENT OF THE INTERIOR

Bureau of Indian Affairs

[201A2100DD/AAKC001030/A0A501010.999900 253G; OMB Control Number 1076-0178]

Agency Information Collection Activities; Native American Business Development Institute (NABDI) Funding Solicitations and Reporting

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before September 28, 2020.

ADDRESSES: Send your comments on this information collection request (ICR) by email to Mr. Jack Stevens, Office of Indian Energy and Economic Development, Office of the Assistant Secretary—Indian Affairs, at: 1849 C Street NW, MS-4152 MIB, Washington, DC 20240; or by email to Jack.Stevens@bia.gov. Please reference OMB Control Number 1076-0178 in the subject line of your comments. If you have comments but are unable to email them, please contact the person listed in the FOR FURTHER INFORMATION CONTACT section of this notice.

FOR FURTHER INFORMATION CONTACT: To request additional information about this ICR, contact Jack Stevens by email at Jack.Stevens@bia.gov, or by telephone at (202) 208-6764.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Division of Economic Development (DED), within the Office of Indian Energy and Economic Development (IEED), established the Native American Business Development Institute (NABDI) to provide technical assistance funding to federally recognized American Indian Tribes seeking to retain universities and colleges, private consulting firms, non-academic/non-profit entities, or others to prepare feasibility studies of potential economic development opportunities. These studies will empower American Indian Tribes and Tribal businesses to make informed decisions regarding their economic futures. Studies may concern the viability of an economic development project or business or the practicality of a technology a Tribe may choose to pursue. The DED will specifically exclude from consideration proposals for research and development projects; requests for funding of salaries for Tribal government personnel; funding to pay legal fees; funding for the purchase or lease of structures, machinery, hardware or other capital items; and funding related to mineral, energy, or broadband development, as these are addressed by other IEED grant programs

This is an annual program whose primary objective is to create jobs and foster economic activity within Tribal communities. The DED will administer the program within IEED; and studies as described herein will be sole discretionary projects DED will consider or fund absent a competitive bidding process. When funding is available, DED will solicit proposals for studies. To receive these funds, Tribes may, if eligible, obtain adjustments to their funding from the Office of Self-Governance. See 25 U.S.C. 450 et seq.

Interested applicants must submit a Tribal resolution requesting funding, a statement of work describing the project for which the study is requested, the identity of the academic institution, consultants, or other entity the applicant wishes to retain (if known) and a budget indicating the funding amount requested and how it will be spent. The DED expressly retains the authority to reduce or otherwise modify proposed budgets and funding amounts.

Applications for funding will be juried and evaluated primarily on the basis of a proposed project's potential to generate jobs and economic activity in a Tribal community.

Title of Collection: Native American Business Development Institute (NABDI) Funding Solicitations and Reporting.

OMB Control Number: 1076-0178.

Form Number: None.

Type of Review: Extension without change of currently approved collection.

Respondents/Affected Public: Indian Tribes with trust or restricted land.

Total Estimated Number of Annual Respondents: 20 applicants per year; 20 project participants each year, on average.

Total Estimated Number of Annual Responses: 40.

Estimated Completion Time per Response: 50 hours per application; 1.5 hours per progress report.

Total Estimated Number of Annual Burden Hours: 1,030 hours (1,000 for applications and 30 for final reports).

Respondent's Obligation: Response is required to obtain a benefit.

Frequency of Collection: Once per year for applications and final report.

Total Estimated Annual Nonhour Burden Cost: $0.

An agency may not conduct or sponsor and a person is not required to respond to a collection of information unless it displays a currently valid OMB control number.

The authority for this action is the Paperwork Reduction Act of 1995 (44 U.S.C. 3501 et seq.).

Elizabeth K. Appel,
Director, Office of Regulatory Affairs and Collaborative Action—Indian Affairs.

[FR Doc. 2020-16404 Filed 7-28-20; 8:45 am]

BILLING CODE 4337-15-P